DEPARTMENT OF TRANSPORTATION

Federal Aviation Administration

14 CFR Part 39

[Docket No. FAA-2013-0093; Directorate Identifier 2011-NM-109-AD]

RIN 2120-AA64

Airworthiness Directives; Gulfstream Aerospace LP (Type Certificate Previously Held by Israel Aircraft Industries, Ltd.) Airplanes

AGENCY: Federal Aviation Administration (FAA), DOT.

ACTION: Notice of proposed rulemaking (NPRM).

SUMMARY: We propose to supersede an existing airworthiness directive (AD) that applies to all Gulfstream Aerospace LP (Type Certificate Previously Held by Israel Aircraft Industries, Ltd.) Model Gulfstream 100 airplanes, and Model Astra SPX and 1125 Westwind Astra airplanes. The existing AD currently requires amending the airplane flight manuals (AFMs) to include additional procedures for verifying complete closure and locking of the main entry door (MED). The existing AD also currently requires modifying the warning and caution lights panel (WACLP), changing the WACLP and MED wiring, changing the wiring harness connecting the MED to the WACLP, and revising the log of modification of the AFM if necessary. Since we issued that AD, we have determined that the compliance time must be revised to ensure the unsafe condition is addressed on low utilization airplanes. We have also removed one airplane from the applicability. We are proposing this AD to prevent incomplete closure of the MED, which may result in the door opening in flight and possible separation of the door, causing damage to the airplane structure and left engine by flying debris and objects.

DATES: We must receive comments on this proposed AD by April 12, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Gulfstream Aerospace Corporation, P.O. Box 2206, Mail Station D-25, Savannah, Georgia 31402-2206; telephone 800-810-4853; fax 912-965-3520; email pubs@gulfstream.com; Internet http://www.gulfstream.com/product_support/technical_pubs/pubs/index.htm. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Stafford, Aerospace Engineer, International Branch, ANM-116, Transport Airplane Directorate, FAA, 1601 Lind Avenue SW., Renton, WA 98057-3356; phone: 425-227-1622; fax: 425-227-1149.

SUPPLEMENTARY INFORMATION:

Comments Invited

We invite you to send any written relevant data, views, or arguments about this proposed AD. Send your comments to an address listed under the ADDRESSES section. Include “Docket No. FAA-2013-0093; Directorate Identifier 2011-NM-109-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On May 7, 2010, we issued AD 2010-11-02, Amendment 39-16307 (75 FR 28485, May 21, 2010), which superseded AD 2007-03-05, Amendment 39-14916 (72 FR 4414, January 31, 2007). That AD required actions intended to address an unsafe condition on the products listed above.

Since we issued AD 2010-11-02, Amendment 39-16307 (75 FR 28485, May 21, 2010), we have determined that the compliance time must be revised to ensure the unsafe condition is addressed on low utilization airplanes. We have also removed one airplane from the applicability. The Civil Aviation Authority of Israel (CAAI), which is the aviation authority for Israel, has issued Israeli Airworthiness Directive 31-06-11-05R1, dated May 18, 2011 (referred to after this as “the MCAI”), to correct an unsafe condition for the specified products. The MCAI states:

To increase pilots' awareness to the possibility of incomplete closure of the Main Entry Door (MED) by the following means:

1. Splitting the common caution light CABIN DOOR signaling both MED Improper Closure and MED Inflatable Seal Failure into two separate lights: CABIN DOOR and CABIN DOOR SEAL.

2. Converting the separated CABIN DOOR Caution light into a Warning light by changing its color to red.

Note: Airplane Flight Manuals (AFM'S) refer to these changes as MOD G1-20052.

Incomplete closure of the MED may be followed by in-flight opening and possible separation of the door. As a result, the MED, the adjacent fuselage structure and other parts of the aircraft may be damaged due to opening forces and landing impact.

Damage to the aircraft structure and to the left engine by flying debris and objects may also occur.

* * * * *

This proposed AD retains the actions required by AD 2010-11-02. This proposed AD limits the existing compliance time by specifying “no later than 6 months after the effective date of this AD.” This proposed AD also removes the airplane having serial number (S/N) 158 from the applicability because the modification was done in production. You may obtain further information by examining the MCAI in the AD docket.

Relevant Service Information

Gulfstream Aerospace LP (Type Certificate Previously Held by Israel Aircraft Industries, Ltd.) has issued Service Bulletin 100-31-284, Revision 1, dated May 27, 2011. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

The new requirements of this AD add no additional economic burden. The current costs for this AD are repeated for the convenience of affected operators, as follows:

Based on the service information, we estimate that this proposed AD would affect about 160 products of U.S. registry.

The actions that are required by AD 2010-11-02, Amendment 39-16307 (75 FR 28485, May 21, 2010) and retained in this proposed AD take about 60 work-hours per product, at an average labor rate of $85 per work hour. Required parts cost about $600 per product. Based on these figures, the estimated cost of the currently required actions is $5,700 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2010-11-02, Amendment 39-16307 (75 FR 28485, May 21, 2010), and adding the following new AD:

Gulfstream Aerospace LP (Type Certificate Previously Held by Israel Aircraft Industries, Ltd.): Docket No. FAA-2013-0093; Directorate Identifier 2011-NM-109-AD.

(a) Comments Due Date

We must receive comments by April 12, 2013.

(b) Affected ADs

This AD supersedes AD 2010-11-02, Amendment 39-16307 (75 FR 28485, May 21, 2010).

(c) Applicability

This AD applies to Gulfstream Aerospace LP (Type Certificate previously held by Israel Aircraft Industries, Ltd.) Model Gulfstream 100 airplanes, and Model Astra SPX and 1125 Westwind Astra airplanes; certificated in any category; all serial numbers except serial number 158.

(d) Subject

Air Transport Association (ATA) of America Code 31: Indicating/Recording Systems.

(e) Reason

This AD was prompted by a report of a main entry door (MED) opening in flight on an unmodified airplane. We are issuing this AD to prevent incomplete closure of the main entry door, which may result in the door opening in flight and possible separation of the door, causing damage to the airplane structure and left engine by flying debris and objects.

(f) Compliance

You are responsible for having the actions required by this AD performed within the compliance times specified, unless the actions have already been done.

(g) Retained Actions and Compliance

This paragraph restates the requirements of paragraph (f) of AD 2010-11-02, Amendment 39-16307 (75 FR 28485, May 21, 2010). Within 10 days after February 15, 2007 (the effective date of AD 2007-03-05, Amendment 39-14916 (72 FR 4414, January 31, 2007)), amend Section IV, Normal Procedures, of the following Gulfstream airplane flight manuals (AFMs): Model 1125 Astra, 25W-1001-1; Model Astra SPX, SPX-1001-1; and Model G100, G100-1001-1; as applicable; to include the following statement. Insertion of copies of this AD at the appropriate places of the AFMs is acceptable. The actions required by this paragraph may be accomplished by a holder of a Private Pilot's License.

1. BEFORE ENGINE START:

(PRE and POST Mod 20052/Gulfstream Service Bulletin 100-31-284):

CABIN DOOR—CLOSED (Physically verify door latch handle pin is fully engaged in the handle lock)

2. BEFORE TAXIING:

Change the CABIN DOOR procedure as follows (POST Mod 20052/Gulfstream Service Bulletin 100-31-284):

Check CABIN DOOR light—OUT

3. BEFORE TAKE-OFF:

Insert between the POSITION lights switch and the THRUST LEVERS procedures:

(PRE Mod 20052/Gulfstream Service Bulletin 100-31-284):

Check CABIN DOOR light—OUT (50% N1 may be required)

(POST Mod 20052/Gulfstream Service Bulletin 100-31-284):

Check CABIN DOOR light—OUT

CABIN DOOR SEAL light—OUT (50% N1 may be required)

Note 1 to paragraph (g) of this AD: Mod 20052 is equivalent to Gulfstream Service Bulletin 100-31-284, dated August 17, 2006.

(h) Retained Modification With Reduced Compliance Time

This paragraph restates the requirements of paragraph (g) of AD 2010-11-02, Amendment 39-16307 (75 FR 28485, May 21, 2010), with reduced compliance time and new service information.

(1) Within 250 flight hours after June 25, 2010 (the effective date of AD 2010-11-02, Amendment 39-16307 (75 FR 28485, May 21, 2010)), but no later than within 6 months after the effective date of this AD: Modify the warning and caution lights panel (WACLP), in accordance with the Accomplishment Instructions of the applicable service bulletin identified in table 1 of this AD.

Table 1—Modification Service Information
Honeywell Service Bulletin— | Dated—
80-0548-31-0001 | April 1, 2006.
80-0548-31-0002 | March 1, 2006.
80-5090-31-0001 | March 1, 2006.

(2) Within 250 flight hours after June 25, 2010 (the effective date of AD 2010-11-02, Amendment 39-16307 (75 FR 28485, May 21, 2010)), but no later than within 6 months after the effective date of this AD: Change the WACLP and MED wiring, in accordance with the Accomplishment Instructions of Gulfstream Service Bulletin 100-31-284, dated August 17, 2006; or Gulfstream Service Bulletin 100-31-284, Revision 1, dated May 27, 2011. As of the effective date of this AD, Gulfstream Service Bulletin 100-31-284, Revision 1, dated May 27, 2011, must be used to accomplish the actions required by this paragraph.

(3) Within 250 flight hours after June 25, 2010 (the effective date of AD 2010-11-02, Amendment 39-16307 (75 FR 28485, May 21, 2010)), but no later than within 6 months after the effective date of this AD: Change the wiring harness connecting the MED to the WACLP, in accordance with the Accomplishment Instructions of Gulfstream Service Bulletin 100-31-284, dated August 17, 2006; or Gulfstream Service Bulletin 100-31-284, Revision 1, dated May 27, 2011. As of the effective date of this AD, Gulfstream Service Bulletin 100-31-284, Revision 1, dated May 27, 2011, must be used to accomplish the actions required by this paragraph.

(4) Within 250 flight hours after June 25, 2010 (the effective date of AD 2010-11-02, Amendment 39-16307 (75 FR 28485, May 21, 2010)), but no later than within 6 months after the effective date of this AD: Verify that the log of modification of the relevant AFM includes reference to MOD G1-20052, and, if no reference is found, revise the log of modification of the AFM to include reference to the modification.

(5) Doing the modifications specified in paragraphs (h)(1), (h)(2), (h)(3), and (h)(4) of this AD terminates the requirements of paragraph (g) of this AD, and after the modifications have been done, the AFM limitation required by paragraph (g) of this AD may be removed from the AFM.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Stafford, Aerospace Engineer, International Branch, ANM-116, Transport Airplane Directorate, FAA, 1601 Lind Avenue SW., Renton, WA 98057-3356; phone: 425-227-1622; fax: 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

Refer to MCAI Israeli Airworthiness Directive 31-06-11-05R1, dated May 18, 2011; and the applicable service information identified in paragraphs (j)(1) through (j)(5) of this AD; for related information.

(1) Gulfstream Service Bulletin 100-31-284, Revision 1, dated May 27, 2011.

(2) Gulfstream Service Bulletin 100-31-284, dated August 17, 2006.

(3) Honeywell Service Bulletin 80-0548-31-0001, dated April 1, 2006.

(4) Honeywell Service Bulletin 80-0548-31-0002, dated March 1, 2006.

(5) Honeywell Service Bulletin 80-5090-31-0001, dated March 1, 2006.

Issued in Renton, Washington, on February 11, 2013.
Ali Bahrami,
Manager, Transport Airplane Directorate, Aircraft Certification Service.

[FR Doc. 2013-04336 Filed 2-25-13; 8:45 am]

BILLING CODE 4910-13-P